DEPARTMENT OF ENERGY

Federal Energy Regulatory Commission

[Docket No. RP01-263-000]

Wyoming Interstate Company, Ltd.; Notice of Tariff Filing

March 7, 2001.

Take notice that on March 1, 2001, Wyoming Interstate Company, Ltd. (WIC) tendered for filing as part of its FERC Gas Tariff, Second Revised Volume No. 2, Sixth Revised Sheet No. 4C, to become effective April 1, 2001.

WIC asserts that the purpose of this filing is to comply with the Commission's orders, issued October 13 and December 21, 1999 in Docket No. RP97-375.

Specifically, this filing calculates new Columbia Exit Fee Surcharge Credits which shall be flowed back to WIC's maximum rate firm and interruptible shippers effective September 1, 2000.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at

http://www.ferc.fed.us/efi/doorbell.htm.

David P. Boergers,
Secretary.

[FR Doc. 01-6155 Filed 3-12-01; 8:45 am]

BILLING CODE 6717-01-M